DEPARTMENT OF THE INTERIOR

National Park Service

36 CFR Chapter I

Negotiated Rulemaking Advisory Committee for Dog Management at Golden Gate National Recreation Area

ACTION: Notice of meeting.

SUMMARY: Notice is hereby given, in accordance with the Federal Advisory Committee Act (Pub. L. 92-463, 86 Stat. 770, 5 U.S.C. App 1, section 10), of the sixth meeting of the Negotiated Rulemaking Advisory Committee for Dog Management at Golden Gate National Recreation Area (GGNRA).

DATES: The Committee will meet on Wednesday, November 8, 2006 in the Conference Center at Fort Mason Center in San Francisco. The meeting will begin at 3 p.m., and is open to the public.

Although the Committee may modify its agenda during the course of its work, the proposed agenda for this meeting is as follows: Agenda review, review and adopt September 21, 2006 meeting summary, update on activities since last meeting, NEPA update, report on and discussion of technical subcommittee meeting #3, next steps, public comment.

The Committee provides for a public comment period during the meeting; written comments may also be sent to: Superintendent, GGNRA, Ft. Mason, Bldg. 201, San Francisco, CA 94123, Attn: Negotiated Rulemaking.

To request a sign language interpreter, please call the Park TDD line (415) 556-2766, at least a week in advance of the meeting. Please note that Federal regulations prohibit pets in public buildings, with the exception of service animals.

FOR FURTHER INFORMATION CONTACT: Go to the http://www.parkplanning.nps.gov/goga and select Negotiated Rulemaking for Dog Management at GGNRA or call the project information line at 415-561-4728.

SUPPLEMENTARY INFORMATION: The Committee was established pursuant to the Negotiated Rulemaking Act of 1990 (5 U.S.C. 561-570) to consider developing a special regulation for dogwalking at GGNRA.

Dated: October 3, 2006.
Bernard C. Fagan,
Acting Chief, Office of Policy.

[FR Doc. E6-16745 Filed 10-10-06; 8:45 am]

BILLING CODE 4312-FN-P